DEPARTMENT OF COMMERCE

International Trade Administration

[A-823-808]

Certain Cut-to-Length Carbon Steel Plate From Ukraine; Preliminary Results of Full Sunset Review of the Suspension Agreement

AGENCY: Import Administration, International Trade Administration, Department of Commerce.

ACTION: Notice of Preliminary Results of the Full Sunset Review of the Suspension Agreement on Certain Cut-to-Length Carbon Steel Plate from Ukraine.

SUMMARY: On August 1, 2008, the Department of Commerce (“the Department”) initiated a sunset review of the suspended antidumping duty investigation on certain cut-to-length carbon steel plate (“CTL plate”) from Ukraine pursuant to section 751(c) of the Tariff Act of 1930, as amended (“the Act”). See Initiation of Five-year (“Sunset”) Review, 73 FR 44968 (August 1, 2008) (“Initiation Notice”). On the basis of notices of intent to participate filed on behalf of domestic interested parties and adequate substantive comments filed on behalf of domestic and respondent interested parties, the Department is conducting a full (240-day) review. As a result of this review, the Department preliminarily finds that termination of the suspended antidumping duty investigation on CTL plate from Ukraine would likely lead to continuation or recurrence of dumping at the levels indicated in the Preliminary Results of Review section of this notice.

DATES: Effective Date: November 25, 2008.

FOR FURTHER INFORMATION CONTACT: Judith Rudman or Jay Carreiro, Import Administration, International Trade Administration, U.S. Department of Commerce, 14th Street and Constitution Avenue, NW., Washington, DC 20230, telephone: (202) 482-0192 or (202) 482-3674.

SUPPLEMENTARY INFORMATION:

History of the Suspension Agreement

On December 3, 1996, the Department initiated an antidumping duty investigation under section 732 of the Tariff Act of 1930 (“the Act”) on certain cut-to-length carbon steel plate (“CTL plate”) from Ukraine. See Initiation of Antidumping Duty Investigations: Certain Cut-To-Length Carbon Steel Plate from the People's Republic of China, Ukraine, the Russian Federation, and the Republic of South Africa, 61 FR 64051 (December 3, 1996). On June 11, 1997, the Department preliminarily determined that CTL plate from Ukraine was being, or was likely to be, sold in the United States at less than fair value. See Preliminary Determination of Sales at Less Than Fair Value; Certain Cut-to-Length Carbon Steel Plate from Ukraine, 62 FR 31958 (June 11, 1997).

The Department suspended the antidumping duty investigation on October 24, 1997, on the basis of an agreement by the Government of Ukraine to restrict the volume of direct and indirect exports of CTL plate to the United States in order to prevent the suppression or undercutting of price levels of U.S. domestic like products. See Suspension of Antidumping Duty Investigation: Certain Cut-to-Length Carbon Steel Plate From Ukraine, 62 FR 61766 (November 19, 1997). Thereafter, the Department completed its investigation and published in the Federal Register its final determination of sales at less than fair market value. In the final determination, the Department calculated weighted-average dumping margins of 81.43 percent for JSC Azovstal Iron & Steel Works (“Azovstal”), 155.00 percent for JSC Ilyich Iron & Steel Works (“Ilyich”), and 237.91 for “all other” Ukrainian manufacturers, producers, and exporters of the subject merchandise. See Notice of Final Determination of Sales at Less Than Fair Value: Certain Cut-to-Length Carbon Steel Plate From Ukraine, 62 FR 61754 (November 19, 1997). A Suspension Agreement (“Agreement”) remains in effect for all manufacturers, producers, and exporters of CTL plate from Ukraine.¹

¹ On September 29, 2008, a revised Suspension Agreement was signed by representatives of Ukrainian CTL plate producers. This agreement became effective November 1, 2008, and replaces the previous non-market economy agreement, and amendments to it, that have been in effect since 1997. For more information, see http://www.trade.gov/press/press_releases/2008/ukraine_092908.asp.

Background

On August 1, 2008, the Department initiated a sunset review of the suspended antidumping duty investigation on CTL plate from Ukraine, pursuant to section 751(c) of the Act. See Initiation Notice, 73 FR 44968. The Department received notices of intent to participate on behalf of ArcelorMittal USA, SSAB North America Division, Evraz S.A. Oregon Steel Mills and Evraz S.A. Claymont, and Nucor Corporation (collectively, “domestic interested parties”), within the applicable deadline specified in section 351.218(d)(1)(i) of the Department's regulations. See Notices of Intent to Participate for ArcelorMittal USA, Inc. (August 18, 2008) and SSAB North America Division; Evraz S.A. Oregon Steel Mills; and Evraz S.A. Claymont (August 15, 2008). Domestic interested parties claimed interested-party status under section 771(9)(C) of the Act as producers of the domestic like products. In addition, domestic interested parties assert that they are not related to a foreign producer/exporter and are not importers, or related to importers, of the subject merchandise.

The Department also received complete substantive responses from the domestic interested parties within the 30-day deadline specified in the Department's regulations under section 351.218(d)(3)(i). See Collective Substantive Response for ArcelorMittal USA, SSAB North America Division, Evraz S.A. Oregon Steel Mills and Evraz S.A. Claymont, and Nucor Corporation (August 29, 2008). On September 2, 2008, the Department received a complete substantive response from Azovstal Iron & Steel Works (“Azovstal”) and Ilyich Iron & Steel Works (“Ilyich”) (collectively, “respondent interested parties”). See Substantive Response for Azovstal and Ilyich (September 2, 2008). Respondent interested parties assert that they participated fully in the original investigation and have exported CTL plate from Ukraine in accordance with the terms and conditions of the Agreement. Respondent interested parties claimed interested-party status under section 771(9)(A) of the Act as foreign manufacturers, producers, and exporters of CTL plate from Ukraine. Domestic interested parties did not submit rebuttal responses.

After examining the substantive responses from all parties, on September 22, 2008, the Department determined that the domestic interested parties' and respondent interested parties' responses were adequate, consistent with the requirements of 19 CFR 351.218(e). See Letter from Edward C. Yang, Director, AD/CVD Operations, China/NME Group, Import Administration, to Robert Carpenter, Director, Office of Investigations, International Trade Commission (September 22, 2008). Because the responses of both domestic and respondent interested parties constituted adequate responses to the notice of initiation, the Department is conducting a full (240-day) sunset review in accordance with 19 CFR 351.218(e)(1)(i). The Department will issue final results of review not later than March 29, 2009.

Scope of Review

The products covered by the Agreement include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the Agreement are flat-rolled products of nonrectangular cross-section where such cross-section is achieved subsequent to the rolling process (i.e., products which have been “worked after rolling”) for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, the written description of the scope of the Agreement is dispositive. Specifically excluded from subject merchandise within the scope of this Agreement is grade X-70 steel plate.

Analysis of Comments Received

All issues raised by parties to this sunset review are addressed in the Issues and Decision Memorandum (“Decision Memorandum”) from Ronald K. Lorentzen, Deputy Assistant Secretary, Policy and Negotiations, Import Administration, to David M. Spooner, Assistant Secretary, Import Administration, dated November 17, 2008, which is adopted by this notice. The issues discussed in the Decision Memorandum include the likelihood of continuation or recurrence of dumping and the magnitude of the margins likely to prevail were the suspended antidumping duty investigation to be terminated. Parties may find a complete discussion of all issues raised in this review and the corresponding recommendations in this public memorandum, which is on file in the Central Records Unit, room B-1117, of the main Commerce building. In addition, a complete version of the Decision Memorandum can be accessed directly on the Web at http://ia.ita.doc.gov/frn. The paper copy and electronic version of the Decision Memorandum are identical in content.

Preliminary Results of Review

We preliminarily determine that termination of the suspended antidumping duty investigation on CTL plate from Ukraine would likely lead to a continuation or recurrence of dumping at the following percentage weighted-average margins:

Manufacturer/producer/exporter | Weighted-average margin percentage
Azovstal | 81.43
Ilyich | 155.00
Ukraine-wide | 237.91

Public Comment

An interested party may request a hearing within 30 days of publication of these preliminary results. See 19 CFR 351.310(c). Interested parties may submit case briefs no later than 50 days after publication of these preliminary results. See 19 CFR 351.309(c)(1)(i). Rebuttal briefs, limited to issues raised in the case briefs, may be filed no later than 5 days after the due date for filing case briefs. See 19 CFR 351.309(d)(1). Any hearing, if requested, will be held 2 days after the due date for filing rebuttal briefs, or the first business day thereafter, unless the Department alters the date. The Department will issue the final results of this sunset review, including the results of our analysis of the issues raised in any written comments or at a hearing, if requested, no later than March 29, 2009.

We are issuing and publishing this notice in accordance with sections 751(c), 752(c), and 777(i)(1) of the Tariff Act.

Dated: November 17, 2008.
David M. Spooner,
Assistant Secretary for Import Administration.

[FR Doc. E8-28019 Filed 11-24-08; 8:45 am]

BILLING CODE 3510-DS-P